DEPARTMENT OF HEALTH AND HUMAN SERVICES

Centers for Disease Control and Prevention

Disease, Disability and Injury Prevention and Control Special Emphasis Panel: Human Immunodeficiency Virus Prevention Projects for Community-Based Organizations, Program Announcement #00023

In accordance with section 10(a)(2) of the Federal Advisory Committee Act (Pub. L. 92-463), the Centers for Disease Control and Prevention (CDC) announces the following meeting.

Name: Disease, Disability and Injury Prevention and Control Special Emphasis Panel: Human Immunodeficiency Virus Prevention Projects for Community-Based Organizations, Program Announcement #00023.

Times and Dates: 8:30 a.m.-12:30 p.m., March 20, 2000 (Open). 12:30 p.m.-4:30 p.m., March 20, 2000 (Closed). 8:30 a.m.-4:30 p.m., March 21-24, 2000 (Closed).

Place: Crowne Plaza Atlanta Airport, 1325 Virginia Avenue, East Point, Georgia, Phone 404/768-6660.

Status: Portions of the meeting will be closed to the public in accordance with provisions set forth in section 552b(c) (4) and (6), Title 5 U.S.C., and the Determination of the Associate Director for Management and Operations, CDC, pursuant to Public Law 92-463.

Matters To Be Discussed: The meeting will include the review, discussion, and evaluation of applications received in response to Program Announcement #00023.

Contact Person for More Information: Megan Foley or Beth Wolfe, Prevention Support Office, National Center for HIV, STD, and TB Prevention, CDC, Corporate Square Office Park, 11 Corporate Square Boulevard, M/S E07, Atlanta, Georgia 30329, telephone 404/639-8025, e-mail MZF3@cdc.gov or EOW1@cdc.gov.

The Director, Management Analysis and Services Office, has been delegated the authority to sign Federal Register Notices pertaining to announcements of meetings and other committee management activities, for both the Centers for Disease Control and Prevention and the Agency for Toxic Substances and Disease Registry.

Dated: February 24, 2000.
Carolyn J. Russell,
Director, Management Analysis and Services Office, Centers for Disease Control and Prevention (CDC).

[FR Doc. 00-4861 Filed 2-29-00; 8:45 am]

BILLING CODE 4163-18-P